DEPARTMENT OF EDUCATION

[Docket No.: ED-2023-SCC-0120]

Agency Information Collection Activities; Submission to the Office of Management and Budget for Review and Approval; Comment Request; Direct Loan, FFEL, Perkins and TEACH Grant Total and Permanent Disability Discharge Application and Related Forms

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before December 27, 2023.

ADDRESSES: Written comments and recommendations for proposed information collection requests should be submitted within 30 days of publication of this notice. Go to www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Direct Loan, FFEL, Perkins and TEACH Grant Total and Permanent Disability Discharge Application and Related Forms.

OMB Control Number: 1845-0065.

Type of Review: A revision of a currently approved ICR.

Respondents/Affected Public: Individuals or Households.

Total Estimated Number of Annual Responses: 61,629.

Total Estimated Number of Annual Burden Hours: 30,814.

Abstract: The Department of Education (Department) is requesting a renewal as revision of the information collection, 1845-0065, Total and Permanent Disability (TPD) Discharge Application and Related Forms. The regulations governing TPD discharges of federal student loans and TEACH Grant service obligations are contained in 34 CFR 685.213 for the Direct Loan Program, 34 CFR 682.402(c) for the FFEL Program, 34 CFR 674.61(b) for the Perkins Loan Program, and 34 CFR 686.42(b) for the TEACH Grant Program. A final rule published on November 1, 2022 (87 FR 65904) made changes to the TPD discharge regulations, including an expansion of the types of Social Security Administration (SSA) disability determinations that qualify a borrower or TEACH Grant recipient for TPD discharge; elimination of the requirement for borrowers who receive TPD discharges based on SSA determinations or a physician's certification to provide documentation of their annual earnings from employment during the 3-year post-discharge monitoring period; and expansion of the categories of medical professionals who may certify an individual's TPD discharge application which necessitate the updating of this information collection. We have also revised the form based on public comment and internal review for ease of use and clarity. We have moved definitions to the front to allow users to know if their loans can be included on this form. We have moved forward where the completed form is to be sent and how to get assistance in completing the form. Further explanation of changes are in the attached comment response table.

Dated: November 20, 2023.
Kun Mullan,
PRA Coordinator, Strategic Collections and Clearance Governance and Strategy Division, Office of Chief Data Officer, Office of Planning, Evaluation and Policy Development.

[FR Doc. 2023-26021 Filed 11-24-23; 8:45 am]

BILLING CODE 4000-01-P